EQUAL EMPLOYMENT OPPORTUNITY COMMISSION

29 CFR Part 1614

RIN 3046-ZA00

Change of Address for Merit Systems Protection Board

AGENCY: Equal Employment Opportunity Commission.

ACTION: Final rule.

SUMMARY: This final rule revises an existing EEOC regulation to correct the address of the Merit Systems Protection Board.

DATES: Effective August 24, 2012.

FOR FURTHER INFORMATION CONTACT: Thomas J. Schlageter, Assistant Legal Counsel, (202) 663-4668, or Danielle J. Hayot, Senior Attorney, (202) 663-4695, Office of Legal Counsel, 131 M St. NE., Washington, DC 20507. Copies of this final rule are available in the following alternate formats: Large print, Braille, electronic computer disk, and audio-tape. Requests for this notice in an alternative formal should be made to the Publications Center at 1-800-699-3362 (voice), 1-800-800-3302 (TTY), or 703-821-2098 (Fax—this is not a toll free number).

SUPPLEMENTARY INFORMATION:

Regulatory Procedures

Executive Order 12866

This action pertains to agency organization, management or personnel matters and therefore is not a rule within the meaning of section 3(d)(3) of Executive Order 12866.

Paperwork Reduction Act

This regulation contains no new information collection requirements subject to review by the Office of Management and Budget under the Paperwork Reduction Act (44 U.S.C. chapter 35).

Regulatory Flexibility Act

The Commission certifies under 5 U.S.C. 605(b) that this rule will not have a significant economic impact on a substantial number of small entities because it does not affect any small business entities. The regulation affects only federal agencies, federal employees, and applicants for federal employment. For this reason, a regulatory flexibility analysis is not required.

Unfunded Mandates Reform Act of 1995

This final rule will not result in the expenditure by State, local, or tribal governments, in the aggregate, or by the private sector, of $100 million or more in any one year, and it will not significantly or uniquely affect small governments. Therefore, no actions were deemed necessary under the provisions of the Unfunded Mandates Reform Act of 1995.

Congressional Review Act

This action pertains to the Commission's management, personnel and organization and does not substantially affect the rights or obligations of non-agency parties and, accordingly, is not a “rule” as that term is used by the Congressional Review Act (Subtitle E of the Small Business Regulatory Enforcement Fairness Act of 1996 (SBREFA)). Therefore, the reporting requirement of 5 U.S.C. 801 does not apply.

List of Subjects in 29 CFR Part 1614

Administrative practice and procedure, equal employment opportunity, government employees.

For the Commission.
Dated: August 2, 2012.
Jacqueline A. Berrien,
Chair.

Accordingly, the Equal Employment Opportunity Commission amends 29 CFR part 1614 as follows:

PART 1614—FEDERAL SECTOR EQUAL EMPLOYMENT OPPORTUNITY

1. The authority citation for part 1614 continues to read as follows:

Authority: 29 U.S.C. 206(d), 633a, 791 and 794a; 42 U.S.C. 2000e-16 and 2000ff-6(e); E.O. 10577, 3 CFR, 1954-1958 Comp., p. 218; E.O. 11222, 3 CFR 1964-1965 Comp., p. 306; E.O. 11478, 3 CFR, 1969 Comp., p. 133; E.O. 12106, 3 CFR, 1978 Comp., p. 263; Reorg. Plan No. 1 of 1978, 3 CFR, 1978 Comp., p. 321.

§ 1614.303 [Amended]

2. In § 1614.303, paragraph (d) is amended by removing the text “Clerk of the MSPB, 1120 Vermont Ave.” and adding, in its place, the text “Clerk of the Board, MSPB, 1615 M Street”.

[FR Doc. 2012-20867 Filed 8-23-12; 8:45 am]

BILLING CODE 6570-01-P